DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before December 13, 2012. Address written comments to Statutory Import Programs Staff, Room 3720, U.S. Department of Commerce, Washington, DC 20230. Applications may be examined between 8:30 a.m. and 5:00 p.m. at the U.S. Department of Commerce in Room 3720.

Docket Number: 12-048. Applicant: Howard Hughes Medical Institute, 4000 Jones Bridge Rd., Chevy Chase, MD 20815. Instrument: Micro-litre and nanolitre dispensing system. Manufacturer: TTP Labtech Ltd, United Kingdom. Intended Use: The instrument will be used to obtain crystals of biological macromolecules and complexes such as ribonucleic acid, proteins, and ribosomes to enable the determination of their three-dimensional atomic resolution structures. The unique features of this instrument which are required for the experiments are that it has a disposable tip system, its speed of operation, and its ability to deliver the small drops required to perform the experiments. Justification for Duty-Free Entry: There are no instruments of the same general category manufactured in the United States. Application accepted by Commissioner of Customs: October 23, 2012.

Docket Number: 12-049. Applicant: Howard Hughes Medical Institute, 4000 Jones Bridge Rd., Chevy Chase, MD 20815. Instrument: Micro-litre and nanolitre dispensing system. Manufacturer: TTP Labtech Ltd, United Kingdom. Intended Use: The instrument will be used to obtain crystals of biological macromolecules and complexes such as ribonucleic acid, proteins, and ribosomes to enable the determination of three-dimensional atomic resolution structures. The unique features of this instrument which are required for the experiments are that it has a disposable tip system, its speed of operation, and its ability to deliver the small drops required to perform the experiments. Justification for Duty-Free Entry: There are no instruments of the same general category manufactured in the United States. Application accepted by Commissioner of Customs: October 18, 2012.

Docket Number: 12-050. Applicant: North Carolina State University, Campus Box 7212, Raleigh, NC 27695. Instrument: Twin-screw Microcompounder. Manufacturer: DSM, Netherlands. Intended Use: The instrument will be used to study biomaterials such as starches, lignin, and proteins, and compare them with styrenics and petroleum based materials. The behavior of these materials before, during, and after physical or chemical modification, in excess or limited water, without shear or at high shear, as well as their hydration, plasiticization or blending with other oligomers will be investigated. Moreover, foams will be generated by the use of blending a suitable blowing agent and/or the carbonization of the materials to determine their density, foam structure and tensile and compression properties. The goal of this project will be to identify suitable technologies for producing moldable biomass based materials for applications presently occupied by conventional plastics. The core of this research will use rheology, spectroscopies and thermal techniques to follow macromolecular structures and functions on the biopolymers after applying the extruder. The unique features of this instrument are its recirculation loop and its ability to connect to a fiber spinner. Justification for Duty-Free Entry: There are no instruments of the same general category manufactured in the United States. Application accepted by Commissioner of Customs: October 22, 2012.

Docket Number: 12-051. Applicant: University of Central Florida, 4000 Central Florida Blvd., Orlando, FL 32816. Instrument: Near Ambient Pressure Scanning Probe Microscope. Manufacturer: SPECS Surface Nano Analysis, GmbH, Germany. Intended Use: The instrument will be used to determine the relationships between nanoparticle size, shape and chemical state and their catalytic activity in various chemical reactions, by investigating solid cataltically-active materials such as transition metals and examining their chemical states and chemical reactivity before and after applying a specified pressure and temperature inside a vacuum chamber inside the instrument. The unique features of this instrument include its small volume (0.045 L) reaction cell in which the sample and STM scanner are placed, which can maintain a pressure of up to 100 mbar while the surrounding large volume (>100 L) Ultra-High Vacuum (UHV) chamber maintains a pressure lower than 10⁻⁶ mbar, allowing the sample to be held at a controlled pressure ranging from UHV up to 100 mbar while measurements are recorded, and can be easily integrated into a system of other UHV measurement instruments to transfer the sample to other measurement chambers. In addition to pressure control, another unique feature of the instrument is its ability to control the temperature from room temperature to 300 degrees Celsius in a gaseous environment (up to 10 mbar). Justification for Duty-Free Entry: There are no instruments of the same general category manufactured in the United States. Application accepted by Commissioner of Customs: October 25, 2012.

Dated: November 14, 2012.
Gregory W. Campbell,
Director of Subsidies Enforcement, Import Administration.

[FR Doc. 2012-28523 Filed 11-21-12; 8:45 am]

BILLING CODE 3510-DS-P